DEPARTMENT OF HEALTH AND HUMAN SERVICES

Administration for Children and Families

Submission for OMB Review; Comment Request

Title: Follow-up to the National Survey of Child and Adolescent Well-Being.

OMB No.: 0970-0202.

Description: The Department of Health and Human Services intends to collect data on a subset of children and families who have participated in the National Survey of Child and Adolescent Well-Being (NSCAW). The NSCAW was authorized under section 427 of the Personal Responsibility and Work Opportunity Reconciliation Act of 1996. The survey began in November 1999 with a national sample of 5,501 children ages 0-14 who had been the subject of investigation by child Protective Services (CPS) during the baseline data collection period, which extended from November 1999 through April 2000. Direct assessments and interviews were conducted with the children themselves, their primary caregivers, their caseworkers, and, for school-aged children, their teachers.

Follow-up data collections were conducted 12 months, 18 months, and 36 months post-baseline. The current data collection plan involves a subset of 950 children from the original sample who were ages 12 and older at baseline and who will be ages 18 and older at follow-up. This group will be in early adulthood, and this follow-up will allow for assessing the functioning and service utilization for this age group as they enter independent living situations. The youths will be interviewed with questions covering social, emotional and behavioral adjustment, living arrangements, employment, service needs, and service utilization.

The data collection for the follow-up will follow the same format as that used in previous rounds of data collection and will employ similar instruments to those used for adolescents who had moved into independent living status in previous rounds. Data from NSCAW are made available to the research community through licensing arrangements from the National Data Archive on Child Abuse and Neglect, housed at Cornell University.

Respondents: 950 youths ages 18 and older.

Annual Burden Estimates
Instrument | Number of respondents | Number of responses per respondent | Average burden hours per response | Total burden hours
Youth Interview | 950 | 1 | 1.5 | 1,425
Estimated Total Annual Burden Hours: 1,425

Additional Information: Copies of the proposed collection may be obtained by writing to the Administration for Children and Families, Office of Administration, Office of Information Services, 370 L'Enfant Promenade, SW., Washington, DC 20447, Attn: ACF Reports Clearance Office. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, E-mail address: Katherine_T._Astrich@omb.eop.gov.

Dated: April 6, 2006.
Robert Sargis,
Reports Clearance Officer.

[FR Doc. 06-3522 Filed 4-12-06; 8:45 am]

BILLING CODE 4184-01-M